DEPARTMENT OF ENERGY

Federal Energy Regulatory Commission

[Docket Nos. EF06-4011-000, et al.]

Southwestern Power Administration, et al.; Electric Rate and Corporate Filings

March 22, 2006.

The following filings have been made with the Commission. The filings are listed in ascending order within each docket classification.

1. Southwestern Power Administration

[Docket No. EF06-4011-000]

Take notice that on February 3, 2006, the Deputy Secretary, U.S. Department of Energy, pursuant to the authority vested on the Deputy Secretary by Delegation Order Nos. 00-037.00, effective December 6, 2001, and 00.001-00B, effective July 28, 2005, submitted to the Federal Energy Regulatory Commission for confirmation and approval on a final basis, the following Southwestern Power Administration (Southwestern) Integrated System Rate Schedule for the period February 1, 2006, through September 30, 2009.

Rate Schedule P-05, Wholesale Rates for Hydro Peaking Power.

Rate Schedule NFTS-05, Wholesale Rates for Non-Federal Transmission/Interconnection Facilities Service.

Rate Schedule EE-05, Wholesale Rate for Excess Energy.

The document submitted by the Deputy Secretary states that the System Rates will increase the annual revenue from $124,325,100 to $133,342,029 primarily to recover increased expenditures in operation and maintenance (O&M) and investment. In addition, the proposed rate schedule indicates the need for an annual increase of $227,100 in revenues received through the Purchased Power Adder to recover increased purchased energy costs. The proposal also includes a continuation of the Administrator's Discretionary Purchased Power Adder Adjustment, to adjust the purchased power adder annually up to $0.0011 per kilowatthour annually. The adder will be $0.0029 per kWh beginning February 1, 2006.

Comment Date: April 3, 2006.

2. Midway Sunset Cogeneration Company

[Docket No. EL06-59-000]

Take notice that on March 17, 2006, Midway Sunset Cogeneration Company (MSCC) filed with the Commission a Petition for Declaratory Order and Request for Expedited Consideration pursuant to Rule 207 of the Commission's Rules of Practice and Procedure, 18 CFR 385.207 (2005).

Comment Date: 5 p.m. Eastern Time on April 17, 2006.

3. Indeck Energy Services of Silver Springs, Inc.

[Docket No. ER06-740-000]

Take notice that on March 10, 2006, Indeck Energy Services of Silver Springs, Inc. tendered for filing an application for market-based rate authority.

Comment Date: 5 p.m. Eastern Time on March 31, 2006.

4. BayCorp Holdings, Ltd.

[Docket No. PH06-30-000]

Take notice that on March 17, 2006, BayCorp Holdings, Ltd. filed a notice pursuant to 18 CFR 366.4(b)(1) claiming exemption from the requirements of the Public Utility Holding Company Act of 2005 pursuant to 18 CFR 366.3(a) and 18 CFR 366.3(b).

Comment Date: 5 p.m. Eastern Time on April 7, 2006.

5. UniSource Energy Corporation; UniSource Energy Services, Inc.

[Docket No. PH06-31-000]

Take notice that on March 16, 2006 UniSource Energy Corporation and UniSource Energy Services, Inc. (collectively, Applicants) submitted for filing a FERC-65B Waiver Notification. Applicants state that on August 1, 2003, the Securities and Exchange Commission granted UniSource Energy Corporation in conjunction with its acquisition of the Arizona electric and gas utility assets of Citizens Communications Company exemptions under section 3(a)(1) from all provisions of the Public Utility Holding Company Act of 1935, as amended.

Comment Date: 5 p.m. Eastern Time on April 6, 2006.

6. Windpower Partners 1993, L.P.

[Docket No. QF85-561-005]

Take notice that on March 17, 2006, Windpower Partners 1993, L.P. submitted a notice of self-recertification to inform the Commission of ownership changes to occur on or after March 20, 2006.

Comment Date: 5 p.m. Eastern Time on April 7, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4597 Filed 3-29-06; 8:45 am]

BILLING CODE 6717-01-P